DEPARTMENT OF AGRICULTURE

Natural Resources Conservation Service

Upper East Canyon Creek Watershed Stream Restoration Projects

AGENCY: Natural Resources Conservation Service (NRCS) in Utah, U.S. Department of Agriculture.

ACTION: Notice of a Finding of No Significant Impact.

SUMMARY: Pursuant to section 102(2)(c) of the National Environmental Policy Act of 1969; the Council on Environmental Quality Regulations (40 CFR part 1500); and the Natural Resources Conservation Service Guidelines (7 CFR part 650); the Natural Resources Conservation Service, U.S. Department of Agriculture, gives notice that an environmental impact statement is not being prepared for UPPER EAST CANYON CREEK WATERSHED STREAM RESTORATION PROJECTS, Summit County, Utah.

FOR FURTHER INFORMATION CONTACT: Sylvia A. Gillen, State Conservationist, Natural Resources Conservation Service, Wallace F. Bennett Federal Building, 125 South State Street, Room 4402, Salt Lake City, Utah 84138-1100; telephone number (801) 524-4550.

SUPPLEMENTARY INFORMATION: The environmental assessment of this federally assisted action indicates that the project will not cause significant local, regional, or national impacts on the environment. As a result of these findings, Sylvia A. Gillen, State Conservationist, has determined that the preparation and review of an environmental impact statement is not needed for this project.

Upper East Canyon Creek Watershed Stream Restoration Projects

Notice of a Finding of No Significant Impact

During Fiscal Year 2006, Congress appropriated funds through a Congressional Earmark to NRCS to provide technical and financial assistance to Snyderville Basin Water Reclamation District to implement a Non-point Source Pollution Reduction Project in the Upper East Canyon Creek Watershed. An Environmental Assessment (EA) was prepared in order to make a reasoned and informed decision in selecting which alternative to implement and also to determine if the proposed action is a major federal action that would significantly affect the quality of the human environment. The proposed action will implement stream and riparian restoration projects along East Canyon Creek and its tributaries in voluntary cooperation with willing landowners. The purpose of the proposed action is to reduce the erosion of sediments that transport phosphorus to East Canyon Creek. The proposed action is needed because non-point source pollution was identified as a possible cause of water quality impairments in the watershed by the Utah Department of Environmental Quality (DEQ). East Canyon Creek from the reservoir to the headwaters is on Utah's 303(d) list for total phosphorus and dissolved oxygen. Eroded sediments in surface runoff are the primary mechanism for phosphorus transport.

The Notice of a Finding of No Significant Impact (FONSI) has been forwarded to the Environmental Protection Agency and to various Federal, State and local agencies and interested parties. A limited number of copies of the FONSI and the EA are available to fill single copy requests at the above address. Basic data developed during the environmental assessment are on file and may be reviewed by contacting Sylvia A. Gillen. No administrative action on implementation of the proposal will be taken until 30 days after the date of this publication in the Federal Register.

Dated: April 18, 2008.
Sylvia A. Gillen,
State Conservationist, Natural Resources Conservation Service, Utah.

[FR Doc. E8-8952 Filed 4-23-08; 8:45 am]

BILLING CODE 3410-16-P